ENVIRONMENTAL PROTECTION AGENCY

[EPA-HQ-OAR-2016-0094; FRL-11120-01-OMS]

Agency Information Collection Activities; Submission to the Office of Management and Budget for Review and Approval; Comment Request; Importation of On-Highway Vehicles and Motorcycles and Nonroad Engines, Vehicles, and Equipment (Renewal)

AGENCY: Environmental Protection Agency (EPA).

ACTION: Notice.

SUMMARY: The Environmental Protection Agency (EPA) has submitted an information collection request (ICR), “Importation of On-highway Vehicles and Motorcycles and Nonroad Engines, Vehicles, and Equipment” (EPA ICR Number 2583.03, OMB Control Number 2060-0717) to the Office of Management and Budget (OMB) for review and approval in accordance with the Paperwork Reduction Act. This is a proposed extension of the ICR, which is currently approved through June 30, 2023. Public comments were previously requested via the Federal Register on October 5, 2022, during a 60-day comment period. This notice allows for an additional 30 days for public comments.

DATES: Additional comments may be submitted on or before July 31, 2023.

ADDRESSES: Submit your comments, referencing Docket ID Number EPA-HQ-OAR-2016-0094, to EPA online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Holly Pugliese, Compliance Division, Office of Transportation and Air Quality, Environmental Protection Agency, 2000 Traverwood, Ann Arbor, Michigan, 48105; telephone number: 734-214-4288; fax number: 734-214-4869; email address: pugliese.holly@epa.gov.

SUPPLEMENTARY INFORMATION: This is a proposed extension of the ICR, which is currently approved through June 30, 2023. An agency may not conduct or sponsor and a person is not required to respond to a collection of information unless it displays a currently valid OMB control number.

Public comments were previously requested via the Federal Register on October 5, 2022, during a 60-day comment period (87 FR 60392). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit https://www.epa.gov/dockets.

Abstract: The Clean Air Act requires that on-highway vehicles and motorcycles, and nonroad vehicles, engines, and equipment imported into the U.S. either comply with applicable emission requirements or qualify for an applicable exemption or exclusion. The Compliance Division (CD) in the EPA's Office of Air and Radiation maintains and makes available instruments to importers to help facilitate the importation of products at U.S. Borders. EPA Form 3520-1 is used by importers of on-highway vehicles and motorcycles, and EPA Form 3520-21 is used by importers of nonroad vehicles, engines, and equipment. For most imports, U.S. Customs and Border Protection (CBP) regulations require that EPA Declaration Forms 3520-1 and 3520-21 be filed with CBP at the time of entry. EPA does not require that the forms be submitted directly to EPA. Rather, they are used by CBP to facilitate the importation process at U.S. borders. EPA does require that the forms be kept by importers for a period of five years after importation to assist EPA's Office of Enforcement and Compliance Assurance (OECA) and CBP should any issues arise with any given importation.

In addition, this ICR covers the burden of EPA Form 3520-8 which EPA makes available upon request and is used by Independent Commercial Importers (ICIs), who bring on-highway vehicles into compliance and provide emissions test results, to request final importation clearance for their on-highway vehicles.

Since 2016, CBP has been using the Automated Commercial Environment (ACE) to facilitate the electronic filing of imports documents rather than collecting paper. ACE has become the primary system through which the trade community and other importers report imports and exports. Through ACE as the single point of submission, manual processes have been streamlined and automated, and paper submissions (e.g. fillable PDFs) have been significantly reduced. Rather than file hard copy forms, importers can log into ACE and check boxes corresponding to information elements currently on the forms. Filers using the ACE interface will also receive transaction information that will be kept by the filer. However, EPA will continue to maintain the forms on our website in fillable PDF format. Although importers are expected to use the ACE interface to submit information, the PDF versions of the form can also be submitted directly into ACE by importers.

Form Numbers: 3520-1, 3520-21, 3520-8.

Respondents/affected entities: Information collected is from individual importers, or companies who import and/or manufacture on-highway vehicles and motorcycles and nonroad engines, vehicles, and equipment.

Respondent's obligation to respond: Required for any importer to legally import on-highway vehicles and motorcycles and nonroad engines, vehicles, and equipment vehicles or engines into the U.S.

Estimated number of respondents: 14,810.

Frequency of response: Once per entry. (One form per shipment may be used.)

Total estimated burden: 131,985 hours (per year). Burden is defined at 5 CFR 1320.03(b).

Total estimated cost: $8,009,549 (per year), which includes $0 annualized capital or operation & maintenance costs.

Changes in Estimates: There is an increase of 50,000 hours in the total estimated respondent burden compared with the ICR currently approved by OMB. This increase is due to the estimated annual number of entries (forms filed with CBP) rising from 160,000 per year to approximately 260,000 per year. Accordingly, due to the additional forms filed and slight increases in labor costs, estimated average annual costs have increased by approximately $3,764,850.

Courtney Kerwin,
Director, Regulatory Support Division.

[FR Doc. 2023-13949 Filed 6-29-23; 8:45 am]

BILLING CODE 6560-50-P